DEPARTMENT OF ENERGY

Agency Information Collection Extension

AGENCY: U.S. Department of Energy.

ACTION: Notice of request for comments.

SUMMARY: The Department of Energy (DOE), pursuant to the Paperwork Reduction Act of 1995, intends to revise and extend for three years, an information collection request with the Office of Management and Budget (OMB). The revision of the collection of information relates to DOE's recognition for 50001 Ready and ISO 50001 certification, OMB Control No. 1910-5177.

DATES: Comments regarding this proposed information collection must be received on or before November 17, 2025. If you anticipate any difficulty in submitting comments within that period, contact the person listed in the FOR FURTHER INFORMATION CONTACT section as soon as possible.

ADDRESSES: Written comments may be sent to Anne Hampson, EE-5A/Forrestal Building, 1000 Independence Avenue SW, Washington, DC 20585, or by email at anne.hampson@ee.doe.gov.

FOR FURTHER INFORMATION CONTACT: Anne Hampson, EE-5A/Forrestal Building, 1000 Independence Avenue SW, Washington, DC 20585; telephone: (240) 780-6132; email at anne.hampson@ee.doe.gov.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5177;

(2) Information Collection Request Titled: Department of Energy Recognition for 50001 Ready and ISO 50001 Certification Information Collection Request. This information collection request was formerly titled “Department of Energy Superior Energy Performance 50001 Program Certification and 50001 Ready Recognition Information Collection Request” and is being retitled to reflect updated DOE recognition pathways for energy management systems implementation;

(3) Type of Review: Revision;

(4) Purpose: This Information Collection Request applies to the Department of Energy (DOE) voluntary recognition pathways for 50001 Ready and ISO 50001 certification for industrial companies, as well as commercial and institutional organizations. The information collection remains necessary to ensure that DOE's recognition offerings continue to deliver energy benefits and value to participants. 50001 Ready recognition is provided to facilities that self-attest their implementation of an energy management system based on the ISO 50001 international energy management system standard. DOE also recognizes organizations and facilities that achieved third-party certification to the ISO 50001 standard.

This request for information consists of a voluntary data collection process for facilities and organizations seeking recognition for ISO 50001-based energy management system implementation and certification: to manage participation, respond to participants, track recognition cycles, and recognize achievements of its participants.

DOE is proposing revisions to this collection, including the removal of three forms associated with the former Superior Energy Performance 50001 (SEP 50001) program, which was an accredited certification scheme under the American National Standards Institute (ANSI) National Accreditation Board (ANAB). The SEP 50001 Application collected information required to enroll a facility planning to pursue ISO 50001 and SEP 50001 certification. The SEP 50001 Energy Performance Improvement Report collected information from SEP 50001 Verification Bodies to confirm the outcomes of facility certifications. The SEP 50001 Scorecard collected information from facilities that requested elevated levels of recognition for energy management achievements exceeding ISO 50001 and SEP 50001 requirements.

With the conclusion of SEP 50001, this collection is adding two brief attestation forms that enable ISO 50001-certified facilities and organizations to engage DOE and request recognition. Users self-select a form based on the number of ISO 50001-certified facilities requesting DOE recognition. Individual facilities will use the ISO 50001 Certification Recognition Attestation Form for single sites. Organizations with multiple sites will use the ISO 50001 Certification Recognition Attestation Form for multi-site.

Facilities and multisite organizations that seek recognition for 50001 Ready or ISO 50001 certification provide background data and basic facility energy use, energy consumption, and energy performance. Background data includes contact information and basic information about the entity requesting DOE recognition. Organizations will self-select which recognition they are requesting and submit one of the following: the 50001 Ready Attestation Form, the ISO 50001 Certification Recognition Form for single sites, or the ISO 50001 Certification Recognition Form for multisite. This data is primarily used to track basic information on recognized facilities and respond to participants' inquiries.

Basic facility information about energy use, energy consumption, and energy performance is collected in the 50001 Ready Energy Performance Improvement Report. This information is used to administer the recognitions, manage recognition cycles, track the results of ISO 50001-based energy management systems implementation, and enable DOE to evaluate its technical resources and recognition pathways and identify potential improvements to remain relevant to users. DOE's online system, the 50001 Ready Navigator, enables participants to submit all forms electronically. Responses to the DOE's Information Collection Request will be voluntary.

(5) Annual Estimated Number of Respondents: 400;

(6) Annual Estimated Number of Total Responses: 400;

(7) Annual Estimated Number of Burden Hours: 300;

(8) Annual Estimated Reporting and Recordkeeping Cost Burden: $20,425.

Statutory Authority: Accelerating Investment in Industrial Energy Efficiency. Executive Order 13624, 77 FR 54779 (Aug. 30, 2012); 42 U.S.C. 16191.

Signing Authority

This document of the Department of Energy was signed on September 15, 2025, by Abraham Shultz, Director, Industrial Technologies Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 16, 2025.
Treena V. Garrett,
Federal Register Liaison Officer, U.S. Department of Energy.

[FR Doc. 2025-18073 Filed 9-17-25; 8:45 am]

BILLING CODE 6450-01-P